DEPARTMENT OF TRANSPORTATION

Surface Transportation Board

[STB Finance Docket No. 35210]

Nicholas B. Temple, Eric Temple, Columbia Basin Railroad Company, Inc, Central Washington Railroad Company and Portland Vancouver Junction Railroad, LLC—Corporate Family Transaction Exemption

Pursuant to an assignment and assumption agreement, Nicholas B. Temple and Eric Temple (collectively, the Temples), Columbia Basin Railroad Company, Inc. (CBRW), Central Washington Railroad Company (CWA), and Portland Vancouver Junction Railroad, LLC (PVJR) have filed a verified notice of exemption for a transaction within a corporate family. The Temples are noncarrier individuals. CBRW and CWA are Class III rail carriers. PVJR is a newly formed, wholly owned subsidiary of CBRW.

In Columbia Basin Railroad Company, Inc.—Lease and Operation Exemption—Clark County, WA, STB Finance Docket No. 34472 (STB served Mar.11, 2004), CBRW was authorized to acquire by lease and to operate 14 miles of rail line owned by Clark County, WA, extending between milepost 0.0 at Vancouver Junction, WA, and milepost 14.1 at Battle Ground, WA. In Columbia Basin Railroad Company, Inc.—Lease and Operation Exemption—Clark County, WA, STB Finance Docket No. 34661 (STB served Mar. 3, 2005), CBRW was also authorized to acquire by lease and to operate an additional 19 miles of rail line owned by Clark County, WA, extending between milepost 14.1 at Battle Ground, WA, and milepost 33.1 at or near Chelatchie, WA. In Central Washington Railroad Company-Lease and Operation Exemption—The Burlington Northern and Santa Fe Railway Company, STB Finance Docket No. 34640 (STB served Jan. 21, 2005), CWA was authorized to lease from The Burlington Northern and Santa Fe Railway Company (BNSF) and to operate 41.57 miles of rail line extending between specified points in the State of Washington. CWA was also assigned certain trackage rights by BNSF as part of that transaction. The Temples control both CBRW and CWA. See Nicholas B. Temple and Eric Temple—Control Exemption—Central Washington Railroad Company, STB Finance Docket No. 34641 (STB served Jan. 21, 2005).

As part of a corporate restructuring, CBRW will assign all of its interests in the 33-mile Clark County line to PVJR. Applicants state that, upon completion of the transaction, PVJR will assume the common carrier obligation regarding the Clark County line.

The transaction is expected to be consummated on or after January 30, 2009 (30 days after the exemption was filed).

Applicants state that the intra-corporate restructuring will reflect that the Clark County line is geographically and operationally distinct from the remainder of CBRW's rail system and that it will insulate each of CBRW and PVJR from the financial, legal and operational risks of the other.

This is a transaction within a corporate family of the type exempted from prior review and approval under 49 CFR 1180.2(d)(3). The parties state that the transaction will not result in adverse changes in service levels, significant operational changes, or changes in the competitive balance with carriers outside the corporate family.

Under 49 U.S.C. 10502(g), the Board may not use its exemption authority to relieve a rail carrier of its statutory obligation to protect the interests of its employees. Section 11326(c), however, does not provide for labor protection for transactions under sections 11324 and 11325 that involve only Class III rail carriers. Accordingly, the Board may not impose labor protective conditions here, because all of the carriers involved are Class III carriers.

If the notice contains false or misleading information, the exemption is void ab initio. Petitions to revoke the exemption under 49 U.S.C. 10502(d) may be filed at any time. The filing of a petition to revoke will not automatically stay the transaction. Petitions for stay must be filed no later than January 23, 2009 (at least 7 days before the effective date of the exemption).

An original and 10 copies of all pleadings, referring to STB Finance Docket No. 35210, must be filed with the Surface Transportation Board, 395 E Street, SW., Washington, DC 20423-0001. In addition, one copy of each pleading must be served on applicants' representative, Rose-Michele Nardi, Weiner Brodsky Sidman Kider PC, 1300 19th Street, NW., Fifth Floor, Washington, DC 20036-1609.

Board decisions and notices are available on our Web site at http://www.stb.dot.gov.

Decided: January 9, 2009.
By the Board, David M. Konschnik, Director, Office of Proceedings.
Jeffrey Herzig,
Clearance Clerk.

[FR Doc. E9-836 Filed 1-15-09; 8:45 am]

BILLING CODE 4915-01-P